DEPARTMENT OF ENERGY

Federal Energy Regulatory Commission

[Project No. 2385-002 New York]

Finch, Pruyn & Company, Inc.; Notice of Availability of Final Environmental Assessment

September 13, 2001.

In accordance with the National Environmental Policy Act of 1969 and the Federal Energy Regulatory Commission's (Commission) regulations, 18 CFR Part 380 (Order No. 486, 52 FR 47897), the Office of Energy Projects has reviewed the application for new license for the Glens Falls Hydroelectric Project, located on the Hudson River in Warren and Saratoga Counties, New York, and has prepared a Final Environmental Assessment (FEA) for the project.

The FEA contains the staff's analysis of the potential environmental impacts of the project and concludes that licensing the project, with appropriate environmental protective measures, would not constitute a major federal action that would significantly affect the quality of the human environment.

A copy of the FEA is on file with the Commission and is available for public inspection. The FEA may also be viewed on the web at http://www.ferc.gov using the “RIMS” link—select “Docket#” and follow the instructions (call 202-208-2222 for assistance).

David P. Boergers,
Secretary.

[FR Doc. 01-23405 Filed 9-19-01; 8:45 am]

BILLING CODE 6717-01-P